POSTAL REGULATORY COMMISSION

[Docket No. CP2022-34; Order No. 6059]

Inbound Competitive Multi-Service Agreements With Foreign Postal Operators

AGENCY: Postal Regulatory Commission.

ACTION: Notice.

SUMMARY: The Commission is acknowledging a recent filing by the Postal Service that it has entered into the Inbound Competitive Multi-Service Agreement with Foreign Postal Operators (FPOs). This notice informs the public of the filing, invites public comment, and takes other administrative steps.

DATES: Comments are due: December 16, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

III. Ordering Paragraphs

I. Introduction

On December 8, 2021, the Postal Service filed a notice with the Commission pursuant to 39 CFR 3035.105 and Order No. 546,¹ giving notice that it has entered into an Inbound Competitive Multi-Service Agreement with Foreign Postal Operators (FPOs). The Notice concerns the inbound portions of the competitive multi-product Interconnect Remuneration Agreement USPS and Specified Postal Operators II (IRA-USPS II Agreement). Notice at 1. The Postal Service seeks to include the IRA-USPS II Agreement within the Inbound Competitive Multi-Service Agreement with Foreign Postal Operators 1 (MC2010-34) product. Id. The IRA-USPS II Agreement contains rates for inbound competitive parcels and packets. Id. at 6.

¹ Notice of United States Postal Service of Filing Functionally Equivalent Inbound Competitive Multi-Service Agreement with Foreign Postal Operators, December 8, 2021 (Notice). Docket Nos. MC2010-34 and CP2010-95, Order Adding Inbound Competitive Multi-Service Agreements with Foreign Postal Service Operators 1 to the Competitive Product List and Approving Included Agreement, September 29, 2010 (Order No. 546).

The Postal Service asserts that the IRA-USPS II Agreement “is functionally equivalent to the baseline agreement filed in Docket No. MC2010-34 because the terms of this agreement are similar in scope and purpose to the terms of the CP2010-95 Agreement.” Id. at 3. Concurrent with the Notice, the Postal Service filed supporting financial documentation and the following documents:

• Attachment 1—an application for non-public treatment;

• Attachment 2—the IRA-USPS II Agreement;

• Attachment 3—a ZIP file with FPO-specific information related to FPOs that are parties to the IRA-USPS II Agreement;

• Attachment 4—Governors' Decision No. 19-1;

• Attachment 5—a certified statement required by 39 CFR 3035.105(c)(2). Id. at 5.

The Postal Service intends for the IRA-USPS II Agreement to become effective January 1, 2022, and continue indefinitely. Id. The Postal Service expects that additional FPOs may become party to the agreement and states that it will update this docket should additional FPOs accede to the IRA-USPS II Agreement. Id. at 6.

The Postal Service states it intends for these rates to be in effect on January 1, 2022. Id. at 1. The Postal Service states that, beginning with the rates that will be in effect in 2022, any party to the IRA-USPS II Agreement can change its delivery rates by communicating the new rates to the International Post Corporation by July 1 of the year preceding the rates' application. Id. at 6. Additionally, the Postal Service notes that the IRA-USPS II Agreement allows parties to self-declare rates within defined parameters. Id.

The Postal Service states that the IRA-USPS II Agreement is in compliance with 39 U.S.C. 3633 and is functionally equivalent to the inbound competitive portions of the baseline agreement, which was included in the Inbound Competitive Multi-Service Agreements with Foreign Postal Operators 1 product (MC2010-34). Id. at 10. For these reasons, the Postal Service avers that the IRA-USPS II Agreement should be added to the Inbound Competitive Multi-Service Agreements with Foreign Postal Operators 1 product. Id.

II. Commission Action

The Commission establishes Docket No. CP2022-34 to consider the Notice. Interested persons may submit comments on whether the IRA-USPS II Agreement is consistent with 39 U.S.C. 3633 and 39 CFR 3035.105 and whether it is functionally equivalent to the baseline agreement included in the Inbound Competitive Multi-Service Agreements with Foreign Postal Operators 1 product (MC2010-34). Comments are due by December 16, 2021.

The Notice and related filings are available on the Commission's website (http://www.prc.gov). The Commission encourages interested persons to review the Notice for further details.

The Commission appoints Katalin K. Clendenin to serve as Public Representative in this proceeding.

III. Ordering Paragraphs

It is ordered:

1. The Commission establishes Docket No. CP2022-34 for consideration of the matters raised by the Notice of United States Postal Service of Filing Functionally Equivalent Inbound Competitive Multi-Service Agreement with Foreign Postal Operators, December 8, 2021.

2. Pursuant to 39 U.S.C. 505, Katalin K. Clendenin is appointed to serve as an officer of the Commission (Public Representative) to represent the interests of the general public in this proceeding.

3. Comments by interested persons are due by December 16, 2021.

4. The Secretary shall arrange for publication of this order in the Federal Register.

By the Commission.
Erica A. Barker,
Secretary.

[FR Doc. 2021-27092 Filed 12-14-21; 8:45 am]

BILLING CODE 7710-FW-P